FEDERAL COMMUNICATIONS COMMISSION

[CC Docket No. 02-6; DA 17-243]

Wireline Competition Bureau Announces E-Rate Inflation-Based CAP for Funding Year 2017

AGENCY: Federal Communications Commission.

ACTION: Notice.

SUMMARY: In this document, the Wireline Competition Bureau (Bureau) announces the E-rate program funding cap for funding year 2017.

FOR FURTHER INFORMATION CONTACT: James Bachtell, Wireline Competition Bureau, (202) 418-7400 or TTY: (202) 418-0484.

SUPPLEMENTARY INFORMATION: Pursuant to section 54.507(a) of the Commission's rules, the Wireline Competition Bureau (Bureau) announces that the E-rate program funding cap for funding year 2017 is $3,990,207,000. The new cap represents a 1.3 percent inflation-adjusted increase in the $3,939,000,000 billion cap from funding year 2016. This represents a $51,207,000 increase for the E-rate program funding cap as a whole, including a $38,077,000 increase for the category one services funding level and a $13,130,000 increase for the category two services funding level. The Commission began indexing the funding cap to inflation in 2010 to ensure that E-rate program funding keeps pace with the changing broadband and telecommunications needs of schools and libraries. A Public Notice was released on March 13, 2017.

Federal Communications Commission.
Ryan B. Palmer,
Chief, Telecommunications Access Policy Division, Wireline Competition Bureau.

[FR Doc. 2017-06850 Filed 4-5-17; 8:45 am]

BILLING CODE 6712-01-P